DEPARTMENT OF ENERGY

Federal Energy Regulatory Commission

Combined Notice of Filings #1

Take notice that the Commission received the following electric corporate filings:

Docket Numbers: EC18-68-000.

Applicants: Solano 3 Wind LLC.

Description: Application of Solano 3 Wind LLC for Authorization to Transfer Jurisdictional Facilities Under Section 203 of the Federal Power Act.

Filed Date: 3/13/18.

Accession Number: 20180313-5120.

Comments Due: 5 p.m. ET 4/3/18.

Take notice that the Commission received the following exempt wholesale generator filings:

Docket Numbers: EG18-52-000.

Applicants: CAFCo Idaho Refuse Management LLC.

Description: Self-Certification of EG or FC of CAFCo Idaho Refuse Management LLC.

Filed Date: 3/13/18.

Accession Number: 20180313-5161.

Comments Due: 5 p.m. ET 4/3/18.

Take notice that the Commission received the following electric rate filings:

Docket Numbers: ER18-445-001.

Applicants: Entergy Services, Inc.

Description: Tariff Amendment: Entergy Services, Inc., Amended Service Agreements to be effective 2/12/2018.

Filed Date: 3/12/18.

Accession Number: 20180312-5193.

Comments Due: 5 p.m. ET 4/2/18.

Docket Numbers: ER18-823-000.

Applicants: ColGreen North Shore, LLC.

Description: Supplement to February 7, 2018 ColGreen North Shore, LLC tariff filing (revised Asset Appendix).

Filed Date: 3/12/18.

Accession Number: 20180312-5219.

Comments Due: 5 p.m. ET 4/2/18.

Docket Numbers: ER18-994-000.

Applicants: Targray Americas Inc.

Description: Tariff Cancellation: Cancellation notice 2018 to be effective 3/31/2018.

Filed Date: 3/12/18.

Accession Number: 20180312-5177.

Comments Due: 5 p.m. ET 4/2/18.

Docket Numbers: ER18-995-000.

Applicants: Southwest Power Pool, Inc.

Description: § 205(d) Rate Filing: Attachment AE Revisions to Clarify Registration of Load to be effective 5/11/2018.

Filed Date: 3/12/18.

Accession Number: 20180312-5187.

Comments Due: 5 p.m. ET 4/2/18.

Docket Numbers: ER18-996-000.

Applicants: Southern California Edison Company.

Description: § 205(d) Rate Filing: Affected PTO Upgrade Facilities Agreement Ares Nevada, LLC to be effective 3/13/2018.

Filed Date: 3/13/18.

Accession Number: 20180313-5000.

Comments Due: 5 p.m. ET 4/3/18.

Docket Numbers: ER18-998-000.

Applicants: Uniper Global Commodities North America LLC.

Description: § 205(d) Rate Filing: Amendment to Market Based Rate to be effective 5/12/2018.

Filed Date: 3/13/18.

Accession Number: 20180313-5068.

Comments Due: 5 p.m. ET 4/3/18.

Docket Numbers: ER18-1001-000.

Applicants: PJM Interconnection, L.L.C.

Description: Tariff Cancellation: Notice of Cancellation of ISA, SA No. 4398; Queue No. X2-027 to be effective 2/13/2018.

Filed Date: 3/13/18.

Accession Number: 20180313-5110.

Comments Due: 5 p.m. ET 4/3/18.

Docket Numbers: ER18-1005-000.

Applicants: Southwestern Electric Power Company.

Description: § 205(d) Rate Filing: SWEPCO-NTEC Brandy Branch Tap to Darco DPA to be effective 2/21/2018.

Filed Date: 3/13/18.

Accession Number: 20180313-5153.

Comments Due: 5 p.m. ET 4/3/18.

Take notice that the Commission received the following electric reliability filings:

Docket Numbers: RD18-2-000.

Applicants: North American Electric Reliability Corporation, Western Electricity Coordinating Council.

Description: Joint Petition of the North American Electric Reliability Corporation and Western Electricity Coordinating Council for Approval of Proposed Regional Reliability Standard BAL-004-WECC-3.

Filed Date: 3/8/18.

Accession Number: 20180308-5197.

Comments Due: 5 p.m. ET 4/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2018.
Kimberly D. Bose,
Secretary.

[FR Doc. 2018-05489 Filed 3-16-18; 8:45 am]

BILLING CODE 6717-01-P